DEPARTMENT OF THE INTERIOR

Fish and Wildlife Service

[FWS-R2-ES-2008-N0116; 21012-11130000-C2]

Draft Bexar County Karst Invertebrates Recovery Plan

AGENCY: Fish and Wildlife Service, Interior.

ACTION: Notice of document availability.

SUMMARY: We, the U.S. Fish and Wildlife Service (Service), announce the availability of the Draft Bexar County Karst Invertebrates Recovery Plan. We are soliciting review and comment from the public on this draft recovery plan.

DATES: To ensure consideration, we must receive comments by July 15, 2008.

ADDRESSES: You may obtain copies of the draft recovery plan from Cyndee Watson, U.S. Fish and Wildlife Service, 10711 Burnet Road, Suite #200, Austin, Texas, (512-490-0057 ext. 223) or download it from the internet at http://www.fws.gov/southwest/es/Library/ (type “Bexar County” in the document title search field).

FOR FURTHER INFORMATION CONTACT: Adam Zerrenner, Field Supervisor, U.S. Fish and Wildlife Service, 10711 Burnet Road Suite #200, Austin, Texas 78758; telephone 512-490-0057 ext 249.

SUPPLEMENTARY INFORMATION:

Background

The Endangered Species Act of 1973 (Act), as amended (16 U.S.C. 1531 et. seq.) requires the development of recovery plans for listed species unless such a plan would not promote the conservation of a particular species. Section 4(f) of the Act, as amended in 1988, requires that public notice and an opportunity for public review and comment be provided during recovery plan development. The Service considers all information provided during a public comment period prior to approval of each new recovery plan. The Service and others take these comments into account in the course of implementing recovery plans.

Nine Bexar County karst invertebrates were listed as endangered species on December 26, 2000 (65 FR 81419 81433). These invertebrates are troglobites, spending their entire lives underground. They inhabit caves and mesocaverns (humanly impassable voids in karst limestone) in Bexar County, Texas. They are characterized by small or absent eyes and pale coloration. These species are Rhadine exilis, Rhadine infernalis, Batrisodes venyivi, Texella cokendolpheri, Neoleptoneta microps, Cicurina baroni, Cicurina madla, Cicurina venii, and Cicurina vespera.

The draft recovery plan includes scientific information about the species and provides objectives and actions needed to recover the Bexar County karst invertebrates and to ultimately remove them from the list of threatened and endangered species. Recovery actions designed to achieve these objectives include reducing threats to the species by securing an adequate quantity and quality of habitat. This includes selecting caves or cave clusters that represent the range of the species and potential genetic diversity for the nine species, then preserving these karst habitats by preserving their drainage basins and surface communities upon which they rely. Because many aspects of the population dynamics and habitat requirements of the species are poorly understood, recovery is also dependant on incorporating research findings into adaptive management actions. Because four of these species are known to occur in only one cave, full recovery may not be possible for these species.

Public Comments

To comment on the plan, please mail comments to the Field Supervisor, Attention Draft Bexar County Karst Invertebrate Recovery Plan, U.S. Fish and Wildlife Service, Austin Ecological Services Field Office, 10711 Burnet Road, Suite 200, Austin, Texas 78758. You may also submit comments electronically to BexarKIrecplan@fws.gov or fax to 512-490-0974.

Public Availability of Comments

Before including your address, phone number, e-mail address, or other personal identifying information in your comment, you should be aware that your entire comment, including your personal identifying information, may be made publicly available at any time. While we will try to honor your written request to withhold your personal identifying information from public review, we cannot guarantee that we will be able to do so.

Authority

The authority for this action is section 4(f) of the Endangered Species Act, 16 U.S.C. 1533(f).

Dated: April 24, 2008.
Christopher T. Jones,
Acting Regional Director, Region 2.

[FR Doc. E8-10996 Filed 5-15-08; 8:45 am]

BILLING CODE 4310-55-P